FEDERAL RETIREMENT THRIFT INVESTMENT BOARD

Sunshine Act; Notice of Meeting

Time and Date: 9 a.m. (Eastern Time), July 16, 2007.

Place: 4th Floor Conference Room, 1250 H Street, NW., Washington, DC 20005.

Status: Open.

Matters to be Considered:

1. Approval of the minutes of the June 19, 2007 Board member meeting.

2. Thrift Savings Plan activity report by the Executive Director:

a. Monthly Participant Activity Report.

b. Legislative Report.

3. Quarterly Reports:

a. Investment Policy Review.

b. Vendor Financial Reports.

Contact Person for More Information: Thomas J. Trabucco, Director, Office of External Affairs, (202) 942-1640.

Dated: July 9, 2007.
Thomas K. Emswiler,
Secretary to the Board, Federal Retirement Thrift Investment Board.

[FR Doc. 07-3391 Filed 7-9-07; 11:33 am]

BILLING CODE 6760-01-P